DEPARTMENT OF COMMERCE

National Oceanic and Atmospheric Administration

RIN 0648-XA466

Endangered Species; File No. 15135

AGENCY: National Marine Fisheries Service (NMFS), National Oceanic and Atmospheric Administration (NOAA), Commerce.

ACTION: Issuance of permit.

SUMMARY: Notice is hereby given that Blake Price, 132 Conch Court, Emerald Isle, NC 28594, has been issued a permit to take threatened and endangered sea turtles for purposes scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727) 824-5309.

FOR FURTHER INFORMATION CONTACT: Carrie Hubard or Amy Hapeman, (301) 713-2289.

SUPPLEMENTARY INFORMATION: On March 12, 2010, notice was published in the Federal Register (75 FR 11863) that a request for a scientific research permit to take sea turtles had been submitted by the above-named individual. The requested permit has been issued under the authority of the Endangered Species Act of 1973, as amended (ESA; 16 U.S.C. 1531 et seq.) and the regulations governing the taking, importing, and exporting of endangered and threatened species (50 CFR parts 222-226).

The permit authorizes tests of modified large mesh (> 5 inches) commercial gillnets targeting southern flounder (Paralichthys lethostigma) in shallow waters of Core Sound, North Carolina. The objective of the research is to determine if gear modifications can eliminate or reduce sea turtle bycatch. Two contracted commercial gillnet vessels will conduct a total of 60 fishing trips, setting five matched (control vs. experimental) sets of gillnets each day. Each matched set would consist of 100 yards of control net (gillnet without illuminated lights) and 100 yards of experimental net (gillnet with illuminated lights), for a total of 1,000 yards of net a day. With the exception of illuminated, green Lindgen-Pitman Electralume lights, the gillnets will be identical in all other respects (e.g., twine material/size; hanging ration; stretch mesh). Turtles will be identified to species, measured, photographed, and flipper and passive integrated transponder tagged before released beyond the fishing area. Any comatose or debilitated turtles will be transported to a rehabilitation center. The permit authorizes capture of 18 Kemp's ridley (Lepidochelys kempii), 15 loggerhead (Caretta caretta), 31 green (Chelonia mydas), 2 hawksbill (Eretmochelys imbricata), and 2 leatherback (Dermochelys coriacea) sea turtles over the life of the permit. Of the captured turtles, 5 Kemp's ridleys, 5 loggerheads, 15 greens, 2 hawksbills, and 2 leatherbacks may be mortalities. The permit is valid through December 31, 2012.

Issuance of this permit, as required by the ESA, was based on a finding that such permit (1) Was applied for in good faith, (2) will not operate to the disadvantage of such endangered or threatened species, and (3) is consistent with the purposes and policies set forth in section 2 of the ESA.

Dated: June 1, 2011.
P. Michael Payne,
Chief, Permits, Conservation and Education Division, Office of Protected Resources, National Marine Fisheries Service.

[FR Doc. 2011-14134 Filed 6-7-11; 8:45 am]

BILLING CODE 3510-22-P